DEPARTMENT OF TRANSPORTATION

National Highway Traffic Safety Administration

49 CFR Parts 571 and 596

[Docket NHTSA-03-15438]

RIN 2127-AH99

Federal Motor Vehicle Safety Standards; Child Restraint Systems; Child Restraint Anchorage Systems Phase-In Reporting Requirements; Correction

AGENCY: National Highway Traffic Safety Administration (NHTSA), Department of Transportation.

ACTION: Final rule; correction.

SUMMARY: This document contains a correction to a final rule (Docket NHTSA-03-15438) that was published Friday, June 27, 2003. The rule responded to petitions for reconsideration of final rules pertaining to Federal Motor Vehicle Safety Standard (FMVSS) No. 225, Child Restraint Anchorage Systems.

EFFECTIVE DATE: September 19, 2003.

FOR FURTHER INFORMATION CONTACT: Deirdre R. Fujita, Office of the Chief Counsel, NHTSA, telephone (202) 366-2992; fax (202) 366-3820, 400 Seventh St., SW., Washington, DC 20590.

SUPPLEMENTARY INFORMATION: The final rule that is the subject of this correction responded to petitions for reconsideration of the agency's March 1999 final rule establishing Federal Motor Vehicle Safety Standard No. 225, Child Restraint Anchorage Systems (49 CFR 571.225), and of the agency's previous responses to petitions, published in August 1999 and July 2000.

Need for Correction

As published, the final rule contains errors that are in need of clarification. One error leads to unclear regulatory text that the agency wants to correct prior to October 1, when 49 CFR part 571 is annually revised. Other errors are more minor and will be corrected in a subsequent Federal Register document that responds to petitions for reconsideration received on the June 27, 2003 final rule (68 FR 38208).

Correction of Publication.

Accordingly, the publication on June 27, 2003 (68 FR 38208, FR Doc. 03-15953) amending FMVSS No. 225 is corrected as follows:

§ 596.5 [Corrected]

On page 38231 in the first column, in instruction 4, line 2, the phrase “introductory test” [sic] is removed.

On page 38231 in the first column, § 596.5, “Response to inquiries” is corrected to read:

§ 596.5 Response to inquiries.

At anytime during the production years ending August 31, 2000, August 31, 2001, August 31, 2002, and August 31, 2005, each manufacturer shall, upon request from the Office of Vehicle Safety Compliance, provide information identifying the vehicles (by make, model and vehicle identification number) that have been certified as complying with Standard No. 225 (49 CFR 571.225). The manufacturer's designation of a vehicle as a certified vehicle is irrevocable.

Issued on September 12, 2003.
Stephen R. Kratzke,
Associate Administrator for Rulemaking.

[FR Doc. 03-23880 Filed 9-18-03; 8:45 am]

BILLING CODE 4910-59-P